DEPARTMENT OF COMMERCE

National Oceanic and Atmospheric Administration

RIN 0648-XF01

Endangered and Threatened Species; Take of Anadromous Fish

AGENCY: National Marine Fisheries Service (NMFS), National Oceanic and Atmospheric Administration (NOAA), Commerce.

ACTION: Receipt of an application for a scientific research permit; request for comments.

SUMMARY: Notice is hereby given that NMFS has received two applications for scientific research permits from the California Department of Fish and Game (CDFG), one from CDFG Region 1 and one from CDFG Region 3. The permits would affect federally threatened Southern Oregon/Northern California Coast coho salmon, endangered Central California Coast coho, threatened California Coastal Chinook salmon, threatened Northern California steelhead, threatened Central California Coast steelhead, threatened South-Central California Coast steelhead, and endangered Southern California steelhead. This document serves to notify the public of the availability of the permit application for review and comment.

DATES: Written comments on the permit application must be received no later than 5 p.m. Pacific Standard Time on February 15, 2008.

ADDRESSES: Comments submitted by e-mail must be sent to the following address: FRNpermits.SR@noaa.gov. The application and related documents are available for review by appointment, for Permit 10093: Protected Resources Division, NMFS, 777 Sonoma Avenue, Room 315, Santa Rosa, CA 95404 (ph: 707-575-6097, fax: 707-578-3435).

FOR FURTHER INFORMATION CONTACT: Jeffrey Jahn at phone number 707-575-6097, or e-mail: Jeffrey.Jahn@noaa.gov.

SUPPLEMENTARY INFORMATION:

Authority

Issuance of permits, as required by the Endangered Species Act of 1973 (16 U.S.C. 1531-1543) (ESA), is based on a finding that such permits: (1) are applied for in good faith; (2) would not operate to the disadvantage of the listed species which are the subject of the permits; and (3) are consistent with the purposes and policies set forth in section 2 of the ESA. Authority to take listed species is subject to conditions set forth in the permits. Permits are issued in accordance with and are subject to the ESA and NMFS regulations governing listed fish and wildlife permits (50 CFR parts 222-226).

Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NMFS.

Species Covered in This Notice

This notice is relevant to federally threatened Southern Oregon/Northern California Coast coho salmon (Oncorhynchus kisutch), endangered Central California Coast coho salmon (O. kisutch), threatened California Coastal Chinook salmon (O. tshawytscha), threatened Northern California steelhead (O. mykiss), threatened Central California Coast steelhead (O. mykiss), threatened South-Central California Coast steelhead (O. mykiss), and endangered Southern California steelhead (O. mykiss).

Applications Received

CDFG Region 1 requests a 5-year permit (10093) for take of juvenile Southern Oregon/Northern California Coast coho salmon, Central California Coast coho salmon, California Coastal Chinook salmon, Northern California steelhead, Central California Coast steelhead, South-Central California Coast steelhead, and Southern California steelhead; and adult Central California Coast coho salmon, California Coastal Chinook salmon, and Northern California steelhead associated with 7 scientific research projects located throughout the California Coast.

Project 1 is a salmonid occurrence and distribution study associated with stream habitat inventories and assessments in streams within California. Surveys will primarily be conducted in Mendocino County, California; however, surveys may also extend throughout the entire length of the California Coast. Surveys may also occur in the San Luis Rey River located in San Diego County, California. CDFG Region 1 requests authorization for an estimated annual non-lethal take of: 400 juvenile Southern Oregon/Northern California Coast coho salmon, 400 juvenile Central California Coast coho salmon, 80 juvenile California Coastal Chinook salmon, 800 juvenile Northern California Steelhead, 400 juvenile Central California Coast steelhead, 50 juvenile South-Central California Coast steelhead, 40 juvenile Southern California steelhead, with no more than 1 percent unintentional mortality resulting from capture (by backpack electrofishing), handling and release of fish. CDFG Region 1 also requests authorization for an estimated annual non-lethal take of: 100 juvenile Southern Oregon/Northern California Coast coho salmon, 100 juvenile Central California Coast coho salmon, 20 juvenile California Coastal Chinook salmon, 200 juvenile Northern California Steelhead, 100 juvenile Central California Coast steelhead, 10 juvenile South-Central California Coast steelhead, and 10 juvenile Southern California steelhead, with no more than 1 percent unintentional mortality resulting from capture (by backpack electrofishing), handling, anesthetizing, tissue sampling (by fin-clipping), scale sampling, and release of fish.

Project 2 is a salmonid study to determine the occurrence and distribution of juvenile salmonids associated with stream inventories to identify restoration actions needed to remediate factors limiting salmonid health and production. Surveys will primarily be conducted in: Del Norte, Humboldt and Mendocino counties, California; however, surveys may also extend throughout the entire length of the California Coast. CDFG Region 1 requests the authorization for an estimated non-lethal take of: 1000 juvenile Southern Oregon/Northern California Coast coho salmon, 2000 juvenile Central California Coast coho salmon, 5000 juvenile Northern California steelhead, 5000 juvenile Central California Coast steelhead, 5000 juvenile South-Central California Coast steelhead, 5000 juvenile Southern California steelhead, with no more than 2 percent unintentional mortality resulting from capture (by backpack electrofishing), handling, and release of fish. CDFG Region 1 also requests authorization for an estimated annual non-lethal take of: 1000 juvenile Southern Oregon/Northern California Coast coho salmon, 2000 juvenile Central California Coast coho salmon, 5000 juvenile Northern California steelhead, 5000 juvenile Central California Coast steelhead, 5000 juvenile South-Central California Coast steelhead, 5000 juvenile Southern California steelhead, with no more than 2 percent unintentional mortality resulting from capture (by backpack electrofishing), tissue sampling (by fin-clipping), scale sampling, handling, and release of fish.

Project 3 is a salmonid study to monitor salmonid response at the reach and/or stream level to watershed restoration activities and evaluate their effectiveness in remediation factors limiting salmonid health and production. Surveys will primarily be conducted in Humboldt and Mendocino counties, California; however, surveys may also extend throughout the entire length of the California Coast. CDFG Region 1 requests the authorization of an estimated annual non-lethal take of: 300 juvenile Southern Oregon/Northern California Coast coho salmon, 600 juvenile Central California Coast coho salmon, 600 juvenile California Coastal Chinook salmon, 360 juvenile South-Central California Coast steelhead, and 360 juvenile Southern California steelhead, with no more than 2 percent unintentional mortality resulting from capture (by backpack electrofishing), anesthetizing, handling, tissue sampling (by fin-clipping), scale sampling, and release of fish. CDFG Region 1 also requests authorization for an estimated annual non-lethal take of: 1440 juvenile Northern California steelhead, and 1440 juvenile Southern California steelhead, with no more than 0.5 percent unintentional mortality resulting from capture (by backpack electrofishing), handling, anesthetizing, tissue sampling, scale sampling and release of fish; and 1440 juvenile South-Central California Coast steelhead, with no more than 0.5 percent unintentional mortality resulting from capture (by backpack electrofishing) handling and release of fish. CDFG Region 1 also requests authorization of an estimated annual non-lethal take of: 460 Central California Coast coho salmon carcasses, and 360 California Coastal Chinook salmon carcasses, with no permanent removal from streams resulting from spawning surveys, handling, tissue sampling (by fin-clipping), scale sampling, and release of fish carcasses.

Project 4 is salmonid spawning survey study to determine if adults are returning to, and spawning within indexed reaches or basin areas. The study consists of multiple spawning surveys primarily located in: Del Norte, Humboldt, and Mendocino counties, California; and surveys may also extend throughout the entire length of the California Coast. CDFG Region 1 requests authorization for an estimated annual non-lethal take of: 2000 Southern Oregon/Northern California Coast coho salmon carcasses, 4000 Central California Coast coho salmon carcasses, and 13000 California Coastal Chinook salmon carcasses, with no permanent removal from the streams resulting from spawning survey, handling, marking (using hog rings), and release of fish carcasses.

Project 5 is a salmonid population abundance, life history, marine and fresh water survival, spawning survey, and restoration effectiveness study located within the following Mendocino County, California watersheds: Pudding Creek, Noyo River, and Casper Creek. CDFG Region 1 also requests that other watersheds in Mendocino County may be included during the life of the permit. CDFG Region 1 requests authorization for an estimated annual non-lethal take of: 20000 juvenile Central California Coast coho salmon and 10000 juvenile Northern California steelhead, with no more than 2.5 percent unintentional mortality resulting from trapping (by fyke-net trap or rotary screw trap), handling, and release of fish; and 15000 juvenile Central California Coast coho salmon with no more than 1 percent unintentional mortality resulting from trapping (by fyke-net trap or rotary screw trap), anesthetizing, fin-clipping, tagging (using passive integrated transponder (PIT) tags), and release of fish; and 500 juvenile California Coastal Chinook salmon with less than 0.3 percent unintentional mortality resulting from trapping (by fyke-net trap or rotary screw trap), anesthetizing, handling, tagging (using PIT tags), and release of fish; and 5000 juvenile Northern California steelhead with no more than 1.5 percent unintentional mortality resulting from trapping (by fyke-net trap or rotary screw trap), anesthetizing, fin-clipping, tagging (using PIT tags), and release of fish. CDFG Region 1 also requests authorization for an estimated annual non-lethal take of: 2000 adult Central California Coast coho salmon, 400 adult Northern California steelhead, with less than 1 percent unintentional mortality resulting from trapping (by fish ladder trap or weir trap), handling, tagging (using Floy tags), and release of fish; and 10 adult California Coastal Chinook salmon with less than 1 percent unintentional mortality resulting from trapping (by fish ladder trap or weir trap), handling, tissue sampling, tagging (using Floy tags), and release of fish. CDFG Region 1 also requests authorization for an estimated annual non-lethal take of 1000 Central California Coast coho salmon carcasses, and 50 Northern California steelhead carcasses, with no permanent removal from streams resulting from spawning surveys, handling, tagging, and releasing of fish carcasses; and 300 Central California Coast coho salmon carcases, 10 California Coastal Chinook salmon carcasses, and 50 Northern California steelhead carcasses, with no permanent removal from streams resulting from spawning surveys, handling, tagging, tissue sampling, and releasing of fish.

Project 6 is a salmonid study to investigate possible straying of potential spawning adults and to collect adult census data. The proposed surveys will be conducted within the Noyo River watershed, in Mendocino County, California. CDFG Region 1 requests the authorization for estimated annual non-lethal take of: 700 adult Central California Coast coho salmon and 10 adult California Coastal Chinook salmon, with no more than 1 percent mortality resulting from capture (by flume type raceway trap or finger weir trap), counting, handling, tissue sampling, tagging (using Floy tags), and release of fish; and 50 adult Northen California steelhead, with no more than 0.5 percent mortality resulting from capture (by flume type raceway trap or finger weir trap), counting, handling, tissue sampling, tagging (using Floy tags), and release of fish.

Project 7 is a salmonid life history and population study in the following coastal water bodies, all located within Northern or Central California: Casper Creek, Little River, Pudding Creek, Hollow Tree Creek, South Fork Noyo River, Ryan Creek in Mendocino County, and Middle Fork Eel River in Humboldt County. CDFG Region 1 requests the authorization for an estimated annual non-lethal take of: 12000 juvenile Southern Oregon/Northern California Coast coho salmon, 11000 juvenile Central California Coast coho salmon, 13000 juvenile Northern California steelhead, and 1000 juvenile Central California Coast steelhead, with no more than 1 percent unintentional mortality resulting from capture (by funnel/fyke trap, backpack electrofishing, or rotary screw trap), anesthetizing, handling, and releasing of fish. CDFG Region 1 also requests authorization for an estimated annual non-lethal take of: 5000 juvenile Southern Oregon/Northern California Coast coho salmon, 5000 juvenile Central California Coast coho salmon, 5000 juvenile California Coastal Chinook salmon, and 3000 juvenile Northern California steelhead, with no more than 1 percent intentional mortality resulting from capture (by funnel/fyke trap, backpack electrofishing, or rotary screw trap), handling, anesthetizing, marking (by fin-clipping) and release of fish; and 200 juvenile Southern Oregon/Northern California Coast coho salmon; 2100 juvenile Central California Coast coho salmon; 100 juvenile California Coastal Chinook salmon; 1500 juvenile Northern California steelhead, and 500 juvenile Central California Coast steelhead, with no more than 1 percent mortality resulting from capture (by funnel/fyke trap, backpack electrofishing, or rotary screw trap), handling, anesthetizing, tissue sampling, and release of fish. CDFG Region 1 also requests authorization for an estimated annual non-lethal take of: 200 Southern Oregon/Northern California Coast coho salmon carcasses, and 1000 Central California Coast coho salmon carcasses, with no permanent removal from streams resulting from spawning surveys, handling, tagging (using hog rings), and release of fish; and 200 Southern Oregon/Northern California Coast coho salmon carcasses, and 500 Central California Coast coho salmon carcasses with no permanent removal from streams resulting from handling, tissue sampling (by fin-clipping) and release of fish.

CDFG Region 3 requests a 5-year permit (10094) for take of juvenile and adult Central California Coast coho salmon, California Coastal Chinook salmon, Northern California steelhead, Central California Coast steelhead, and South-Central California Coast steelhead associated with 3 scientific research projects located throughout the California Coast.

Project 1 is a North Bay watershed restoration and resource assessment study including investigations of salmonid occurrence and distribution, abundance, life history, and adult escapement. Surveys will be supervised out of Yountville, California and conducted throughout the rivers, streams, and reservoirs in Mendocino, Sonoma, Napa and Marin Counties, California. CDFG Region 3 requests authorization for an estimated annual non-lethal take of: 2300 juvenile Central California Coast coho salmon, with no more than 1 percent unintentional mortality resulting from capture (by backpack electrofishing or funnel/fyke traps), handling, anesthetizing, and release of fish; and 800 juvenile California Coastal Chinook salmon, 800 juvenile Northern California steelhead, and 7100 juvenile Central California Coast steelhead with no more than 2 percent unintentional mortality resulting from capture (by backpack electrofishing or funnel/fyke traps), handling, anesthetizing, and release of fish. CDFG Region 3 also requests authorization of an estimated annual non-lethal take of: 340 adult Central California Coast coho salmon, 140 adult California Coastal Chinook salmon, 130 adult Northern California steelhead, and 1050 adult Central California Coast steelhead, with no more than 1 percent unintentional mortality resulting from capture (by Resistance Board weir or fish ladder trap), handling, tissue sampling (by fin-clipping or opercular-hole-punching), scale sampling, tagging (using Floy tags), and release of fish. CDFG Region 1 also requests authorization for an estimated annual non-lethal take of: 100 Central California Coast coho salmon carcasses, 100 California Coastal Chinook salmon carcasses, 100 Northern California steelhead carcasses, and 100 Central California Coast steelhead carcasses, with no permanent removal from streams resulting from spawning surveys, handling, tissue sampling (by fin-clipping), scale sampling, and release of fish carcasses.

Project 2 is a South Bay watershed restoration and resource assessment study including investigations of salmonid occurrence and distribution, abundance, life history, and adult escapement. Surveys will be supervised out of Yountville, California and conducted throughout the rivers, streams, and reservoirs in Monterey, San Luis Obispo, San Benito, San Mateo, San Francisco, Santa Cruz, Santa Clara, Alameda, and Contra Costa counties, California. CDFG Region 3 requests authorization for an estimated annual non-lethal take of: 2000 juvenile Central California Coast coho salmon, 100 juvenile California Coastal Chinook salmon, 16400 juvenile Central California Coast steelhead, and 6200 juvenile South-Central California Coast steelhead, with no more than 1 percent unintentional mortality resulting from capture (by backpack electrofishing, funnel/fyke traps or beach seining), handling, anesthetizing, and release of fish. CDFG Region 3 also requests authorization of an estimated annual non-lethal take of: 310 adult Central California Coast coho salmon, 10 adult California Coastal Chinook salmon, 1060 adult Central California Coast steelhead, and 120 adult South-Central California Coast steelhead, with no more than 1 percent unintentional mortality resulting from capture (by Resistance Board weir or fish ladder trap), handling, tissue sampling (by fin-clipping or opercular-hole-punching), scale sampling, tagging (using Floy tags), and release of fish. CDFG Region 1 also requests authorization for an estimated annual non-lethal take of: 100 Central California Coast coho salmon carcasses, 100 California Coastal Chinook salmon carcasses, 100 Central California Coast steelhead carcasses, and 100 South-Central California Coast steelhead carcasses, with no permanent removal from streams resulting from spawning surveys, handling, tissue sampling (by fin-clipping or opercular-hole-punching), scale sampling, and release of fish carcasses.

Project 3 is a Bay Delta Region wild trout assessment study including investigations of salmonid abundance, life history, occurrence and distribution. Surveys will be supervised out of Yountville, California and conducted throughout the rivers, streams, and reservoirs in Mendocino, Sonoma, Napa, Marin, San Mateo, San Francisco, Santa Cruz, Santa Clara, Alameda, Yolo, Solano, Sacramento, San Joaquin, and Contra Coast counties, California. CDFG Region 3 requests authorization for an estimated annual non-lethal take of: 100 juvenile Central California Coast coho salmon, 100 juvenile California Coastal Chinook salmon, 1000 juvenile Northern California steelhead, 1000 juvenile Central California Coast steelhead, and 1000 juvenile South-Central California Coast steelhead, with no more than 2 percent unintentional mortality resulting from capture (by backpack electrofishing or hook & line), handling, anesthetizing, and release of fish. CDFG Region 3 also requests authorization of an estimated annual non-lethal take of: 1 adult Central California Coast coho salmon, 1 adult California Coastal Chinook salmon, 10 adult Northern California steelhead, 10 adult Central California Coast steelhead, and 10 adult South-Central California Coast steelhead, with no more than 1 percent unintentional mortality resulting from capture (by backpack electrofishing or hook & line), handling, tissue sampling (by fin-clipping), scale sampling, and release of fish.

Dated: January 11, 2008.
Angela Somma,
Chief, Endangered Species Division, Office of Protected Resources, National Marine Fisheries Service.

[FR Doc. E8-688 Filed 1-15-08; 8:45 am]

BILLING CODE 3510-22-S